DEPARTMENT OF HEALTH AND HUMAN SERVICES

Centers for Disease Control and Prevention

[60 Day-09-09AO]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. Alternatively, to obtain a copy of the data collection plans and instrument, call 404-639-5960 and send comments to Maryam I. Daneshvar, CDC Reports Clearance Officer, 1600 Clifton Road, NE., MS-D74, Atlanta, Georgia 30333; comments may also be sent by e-mail to omb@cdc.gov.

Comments are invited on: (a) Whether the proposed collection of information is necessary for the proper performance of the functions of the agency, including whether the information shall have a practical utility; (b) the accuracy of the agency's estimate of the burden of the proposed collection of information; (c) ways to enhance the quality, utility, and clarify of the information to be collected; and (d) ways to minimize the burden of the collection of information on respondents, including through the use of information technology. Written comments should be received within 60 days of this notice.

Proposed Project

State/Territorial Healthcare Situational Awareness and Rapid Survey Capability Data Call—New—National Center for Preparedness, Detection, and Control of Infectious Diseases (NCPDCID), Centers for Disease Control and Prevention (CDC).

Background and Brief Description

During public health emergencies, the ability of the nation's healthcare system to deliver care needs to be rapidly assessed to inform response decisions. Currently, there is no automated system to collect and analyze information at the federal level, and the capability to achieve situational awareness at the state and regional levels varies across the nation—some states have robust systems while others have none. The gap in the ability to collect and analyze information during a public health emergency across existing systems and from jurisdictions without situational awareness capabilities limits the response capabilities at all levels; the essential decision-making information is not available at the federal level, and the state and local response agencies will be bombarded with multiple inquiries in the midst of a public health emergency.

Work over the past two years has identified significant requirements for the development of this capability; through collaboration with stakeholder representatives, the foundation has been laid to rapidly progress into the areas of content and system development. In order for the development to continue, the technical characteristics of state and territory-based systems need to be identified so that situational awareness capabilities at the federal level can be designed to work in coordination with those existing systems. It is essential that specific and standard information is collected from all states and territories.

This data collection will consist of two phases. In the first phase, CDC will verify the contact information of the state/territorial public health preparedness contact. In the second phase, the state/ territory situational awareness data call will be distributed to these individuals; the responses provided will be analyzed to develop the most effective and efficient federal situational awareness capability.

This proposed project supports CDC's Preparedness Goal of “People Prepared for Emerging Health Threats,” specifically the objective to “Integrate and enhance existing surveillance systems at the local, state, national, and international levels to detect, monitor, report, and evaluate public health threats.”

There are no costs to respondents other than their time to complete the data collection.

Estimate of Annualized Burden Hours
Respondents | Number of respondents | Number of responses per respondent | Average burden per response (in hours) | Total burden (in hours)
State/Territorial Public Health Preparedness Contact—Contact Verification | 62 | 1 | 5/60 | 5
State/Territorial Public Health Preparedness Contact—Data Call | 62 | 1 | 30/60 | 31
Total |  |  |  | 36

Dated: January 29, 2009.
Maryam I. Daneshvar,
Acting Reports Clearance Officer, Centers for Disease Control and Prevention.

[FR Doc. E9-2439 Filed 2-4-09; 8:45 am]

BILLING CODE 4163-18-P